DEPARTMENT OF ENERGY

Federal Energy Regulatory Commission

[Project No. 2705-037]

Seattle City Light; Notice of Intent To Prepare an Environmental Assessment and Notice of Revised Schedule

On January 28, 2022, and supplemented on February 14 and December 12, 2022, and April 10 and October 24, 2023, Seattle City Light filed an application for surrender of license for the Newhalem Creek Hydroelectric Project No. 2705. The project is located on Newhalem Creek in Whatcom County, Washington. The project occupies Federal lands within the Ross Lake National Recreation Area managed by the National Park Service.

The licensee proposes to surrender the project due to the following issues: leaks in the power tunnel; maintenance needs at the headworks and powerhouse; and safety concerns along the access road due to an active landslide. The licensee proposes to: remove the diversion dam and associated headworks structures, tailrace fish barrier, and certain overhead transmission lines; seal the rock shaft and power tunnel; decommission the access road and powerhouse; and leave the powerhouse, tailrace, and penstock in place.

Based on the additional information needed to complete our analysis filed on October 24, 2023, this notice revises the schedule identified in Scoping Document 1, issued on August 29, 2022, in consultation with Seattle City Light. Commission staff's revised schedule for completion of the Environmental Assessment (EA) is by April 30, 2024.¹ Based on the project record, Commission staff plans to issue an EA to be made available for review and comment by all interested parties. All comments filed on the EA will be reviewed by staff and considered in the Commission's final decision on the proceeding.

¹ 42 U.S.C. 4336a(g) requires lead Federal agencies to complete EAs within 1 year of the agency's decision to prepare an EA, unless the schedule is extended in consultation with the applicant.

With this notice and revised schedule, the Commission is inviting Federal, State, local, and Tribal agencies with jurisdiction and/or special expertise with respect to environmental issues affected by the proposal to cooperate in the preparation of the EA planned to be issued April 30, 2024. Agencies wishing to cooperate, or further discuss the benefits, responsibilities, and obligations of the cooperating agency role, should contact staff listed at the bottom of this notice by February 19, 2024. Cooperating agencies should note the Commission's policy that agencies that cooperate in the preparation of any environmental document cannot also intervene. See 94 FERC ¶ 61,076 (2001).

The Commission's Office of Public Participation (OPP) supports meaningful public engagement and participation in Commission proceedings. OPP can help members of the public, including landowners, environmental justice communities, Tribal members, and others to access publicly available information and navigate Commission processes. For public inquiries and assistance with making filings such as interventions, comments, or requests for rehearing, the public is encouraged to contact OPP at (202) 502-6595 or OPP@ferc.gov.

Any questions regarding this notice may be directed to Diana Shannon at 202-502-6136 or diana.shannon@ferc.gov.

Dated: January 30, 2024.
Debbie-Anne A. Reese,
Acting Secretary.

[FR Doc. 2024-02192 Filed 2-2-24; 8:45 am]

BILLING CODE 6717-01-P